NUCLEAR REGULATORY COMMISSION

[Docket No. 70-7027; NRC-2022-0201]

TRISO-X, LLC; Special Nuclear Material License Application for the TRISO-X Fuel Fabrication Facility; Final Environmental Impact Statement

AGENCY: Nuclear Regulatory Commission.

ACTION: Notice; issuance.

SUMMARY: The U.S. Nuclear Regulatory Commission (NRC) has issued a final Environmental Impact Statement (EIS) for a Special Nuclear Material License Application for the TRISO-X Fuel Fabrication Facility (FFF). TRISO-X, LLC (TRISO-X) would be authorized to possess and use special nuclear material to manufacture high-assay low enriched uranium (HALEU) fuel. The proposed fuel fabrication facility would be located on a 110-acre site at the Horizon Center in Oak Ridge, Roane County, Tennessee.

DATES: The FEIS referenced in this document was made publicly available on February 12, 2026.

ADDRESSES: Please refer to Docket ID NRC-2022-0201 when contacting the NRC about the availability of information regarding this document. You may obtain publicly available information related to this document using any of the following methods:

• Federal Rulemaking Website: Go to https://www.regulations.gov and search for Docket ID NRC-2022-0201.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The final EIS is available in ADAMS under Accession No. ML26033A130.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the final EIS for a Special Nuclear Material License Application for the TRISO-X FFF will be available for public review at the Oak Ridge Public Library, 1401 Oak Ridge Turnpike, Oak Ridge, TN 37830.

FOR FURTHER INFORMATION CONTACT: Jill Caverly, Office of Nuclear Material Safety and Safeguards, U.S. Nuclear Regulatory Commission, Washington, DC 20555-0001; telephone: 301-415-7674; email: Jill.Caverly@nrc.gov.

SUPPLEMENTARY INFORMATION:

I. Background

In accordance with section 51.118 of title 10 of the Code of Federal Regulations (10 CFR) “Final environmental impact statement—notice of availability,” the NRC is providing notice that the final EIS for a Special Nuclear Material License Application for the TRISO-X FFF is available for public inspection. The NRC issued a draft EIS for this action on September 26, 2025 (ADAMS Accession No. ML25267A128) and published a Federal Register (FR) notice on October 23, 2025 (90 FR 48508) to request comments on the draft EIS. On November 17, 2025, the NRC extended the public comment period for the draft EIS until December 8, 2025 (90 FR 51412). The final EIS includes responses to comments on the draft EIS and conforming changes where appropriate.

II. Discussion

The NRC has prepared a final EIS as part of its environmental review of the TRISO-X application for a 40-year license to possess and use special nuclear material at a FFF that would be located on a 110-acre greenfield site in Oak Ridge, Roane County, Tennessee. This final EIS assesses the potential environmental impacts of the TRISO-X license application and the associated proposal to construct, operate, and decommission the FFF, as well as the no-action alternative to the proposed action.

The proposed Federal action is the issuance of a license, under 10 CFR part 70, “Domestic Licensing of Special Nuclear Material,” to authorize TRISO-X to possess and use special nuclear material to manufacture HALEU fuel at a to-be-constructed FFF. The facility would produce tri-structural isotropic-based coated particles and final fuel forms using uranium enriched to less than 20 weight percent uranium-235. Issuance of a license enabling the possession and use of special nuclear material at the FFF would be for a first-of-its-kind fabrication operation in the United States.

The final EIS for TRISO-X's license application includes the NRC staff's analysis that evaluates the environmental impacts of the proposed action and the no-action alternative to the proposed action. The final EIS also contains the NRC staff's final recommendation on the action to be taken, which is based on the following factors:

• The NRC staff's review of TRISO-X's environmental report (included as part of the TRISO-X license application) and associated responses from TRISO-X to requests from the NRC staff for clarifying information;

• The NRC staff's review of comments received as part of the scoping process;

• The NRC staff's communications with Federal, State, and local agencies, as well as Tribal officials;

• The NRC staff's review of comments on the draft EIS; and

• The NRC staff's independent environmental review.

The NRC staff's final recommendation, unless safety issues mandate otherwise, is that the NRC issue the license to possess and use special nuclear material to TRISO-X.

Dated: February 9, 2026.
For the Nuclear Regulatory Commission.
Robert Sun,
Chief, Environmental Project Management, Branch 2, Division of Rulemaking, Environmental, and Financial Support, Office of Nuclear Material Safety, and Safeguards.

[FR Doc. 2026-02920 Filed 2-12-26; 8:45 am]

BILLING CODE 7590-01-P